DEPARTMENT OF EDUCATION

[Docket No.: ED-2023-SCC-0216]

Agency Information Collection Activities; Submission to the Office of Management and Budget for Review and Approval; Comment Request; Process for FSA ID Account Creation for Individuals Without a Social Security Number in Connection With Person Authentication Service (PAS)

AGENCY: Federal Student Aid (FSA), Department of Education (ED).

ACTION: Notice.

SUMMARY: In accordance with the Paperwork Reduction Act (PRA) of 1995, the Department is proposing an extension without change of a currently approved information collection request (ICR).

DATES: Interested persons are invited to submit comments on or before June 10, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Beth Grebeldinger, (202) 377-4018.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Process for FSA ID Account Creation for Individuals without a Social Security Number in Connection with Person Authentication Service (PAS).

OMB Control Number: 1845-0179.

Type of Review: Extension without change of a currently approved ICR.

Respondents/Affected Public: Individuals or Households.

Total Estimated Number of Annual Responses: 3,500.

Total Estimated Number of Annual Burden Hours: 1,155.

Abstract: Applicants, parents, and borrowers establish an FSA ID, which includes a username and password. The FSA ID is used for the purposes of verifying the identity of the user; allowing users to establish an account with FSA; safeguarding their personally identifiable and financial information; signing applications and loan related documents; providing users access to their information and applications; allowing users to customize or update their accounts with FSA; renewing or revoking a user's account with FSA; and supporting the Federal Student Aid Information Center (FSAIC) help desk functions.

The specific questions that applicants are asked to answer in the FSA ID creation process are described separately in the Creating FSA-ID document, which explains the use of the questions in the application. As part of the standard process, users' information is matched with information from the Social Security Administration (SSA) to confirm their SSA status.

In the event of individuals who do not have a SSN to match, they are instructed to the contact the Department and provide one of the following documents (U.S. State/Territory Driver's License; U.S. State or City Identification Card; Foreign Passport; Municipal identification card; Community ID; or a Consular identification card) and a signed attestation of their identity under the penalty of perjury, as instructed by the Privacy Act.

This collection provides the process and application that individuals without an SSN may use to acquire an FSA ID to access the statutory and regulatory benefits of the Title IV, HEA student financial assistance programs.

Dated: May 6, 2024.
Kun Mullan,
PRA Coordinator, Strategic Collections and Clearance, Governance and Strategy Division, Office of Chief Data Officer, Office of Planning, Evaluation and Policy Development.

[FR Doc. 2024-10202 Filed 5-9-24; 8:45 am]

BILLING CODE 4000-01-P